DEPARTMENT OF ENERGY

[OE Docket No. EA-421]

Application To Export Electric Energy; ReEnergy Fort Fairfield LLC

AGENCY: Office of Electricity Delivery and Energy Reliability, DOE.

ACTION: Notice of application.

SUMMARY: ReEnergy Fort Fairfield LLC (Applicant or ReEnergy Fort Fairfield) has applied for authority to transmit electric energy from the United States to Canada pursuant to section 202(e) of the Federal Power Act.

DATES: Comments, protests, or motions to intervene must be submitted on or before July 22, 2016.

ADDRESSES: Comments, protests, motions to intervene, or requests for more information should be addressed to: Office of Electricity Delivery and Energy Reliability, Mail Code: OE-20, U.S. Department of Energy, 1000 Independence Avenue SW., Washington, DC 20585-0350. Because of delays in handling conventional mail, it is recommended that documents be transmitted by overnight mail, by electronic mail to Electricity.Exports@hq.doe.gov, or by facsimile to 202-586-8008.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On May 12, 2016, DOE received an application from ReEnergy Fort Fairfield for authority to transmit electric energy from the United States to Canada from its 37 megawatt (MW) capacity biomass-fired electric generation facility located in Fort Fairfield, Maine.

In its application, ReEnergy Fort Fairfield states that it owns the 37 MW capacity generation facility noted above. ReEnergy Fort Fairfield proposes to transmit the electric output across the Emera Maine transmission system into Canada, where the power is wheeled through New Brunswick Power Corporation's (NBPC) transmission system, and is transmitted back into the United States over the international electric transmission lines of Maine Electric Power Company, Inc. (MEPCO) to ISO-NE. ReEnergy Fort Fairfield will use the same Emera Maine transmission facilities previously authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments and other filings concerning ReEnergy Fort Fairfield's application to export electric energy to Canada should be clearly marked with OE Docket No. EA-421. An additional copy is to be provided directly to both William Ralston, ReEnergy Fort Fairfield LLC, 30 Century Hill Drive, Suite 101, Latham, NY 12110 and to Stephen C. Palmer, Esq., Alston & Bird LLP, 950 F Street NW., Washington, DC 20004.

A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available, upon request, for public inspection and copying at the address provided above, by accessing the program Web site at http://energy.gov/node/11845, or by emailing Angela Troy at Angela.Troy@hq.doe.gov.

Issued in Washington, DC, on June 15, 2016.
Brian Mills,
Senior Planning Advisor, Office of Electricity Delivery and Energy Reliability.

[FR Doc. 2016-14771 Filed 6-21-16; 8:45 am]

BILLING CODE 6450-01-P